DEPARTMENT OF ENERGY

Federal Energy Regulatory Commission

[Docket No. RP04-413-000]

Columbia Gulf Transmission Company, Complainant, v. Tennessee Gas Pipeline Company, Respondent; Notice of Complaint Requesting Fast Track Processing

July 27, 2004.

Take notice that on July 26, 2004, Columbia Gulf Transmission Company (Columbia Gulf) filed a formal complaint against Tennessee Gas Pipeline Company (Tennessee) pursuant to sections 4(a), 5(a), 7(c) and 16 of the Natural Gas Act (NGA), and Rule 206 of the Commission's Rules of Practice and Procedure, alleging that Tennessee is illegally imposing a transportation charge on Columbia Gulf's South Pass 77 shippers in violation of the NGA, Commission orders that approved a Reciprocal Lease Agreement between Tennessee and Columbia Gulf, and in violation of the Reciprocal Lease Agreement itself. Columbia Gulf requests fast track processing of its Complaint.

Columbia Gulf certifies that copies of the complaint were served on the contacts for Tennessee as listed on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on August 13, 2004.

Magalie R. Salas,
Secretary.

[FR Doc. E4-1702 Filed 8-2-04; 8:45 am]

BILLING CODE 6717-01-P